DEPARTMENT OF ENERGY

Federal Energy Regulatory Commission

[Docket No. PF04-15-000]

Dominion Cove Point LNG, LP; Notice of New Public Comment Period (Scoping)

March 16, 2005.

On October 14, 2004, the Secretary of the Commission issued a “Notice of Intent To Prepare an Environmental Impact Statement (EIS) for the Proposed Dominion Cove Point LNG Expansion Project, Request for Comments on Environmental Issues, and Notice of Public Scoping Meetings and Site Visits (NOI)”. On November 1, 2004, we identified additional stakeholders in the project area and extended the public comment period, which expired on December 10, 2004.

Dominion Transmission, Incorporated (DTI) has identified additional facilities for inclusion in its proposed project. In order to provide adequate opportunity for newly identified stakeholders to become involved in our Pre-Filing Review Process, the Commission staff is opening a new public comment period. This comment period is specific to only those newly identified facilities. The Commission staff is particularly interested in learning about issues not already addressed or identified from the project's previous scoping period. Please note this public comment period will close on April 18, 2005.

The Commission staff has notified the newly identified stakeholders, and has invited them to participate in the ongoing pre-filing review. A copy of this letter, along with an enclosure that lists all the proposed facilities in Dominion's updated Cove Point LNG Expansion Project, may be viewed on the Commission's Web site, at http://www.ferc.gov (click on eLibrary and enter the docket number listed above).

Magalie R. Salas,
Secretary.

[FR Doc. E5-1273 Filed 3-22-05; 8:45 am]

BILLING CODE 6717-01-P